NUCLEAR REGULATORY COMMISSION

[NRC-2012-0002]

Sunshine Act Meeting Notice

DATE: Weeks of March 5, 12, 19, 26, April 2, 9, 2012.

PLACE: Commissioners' Conference Room, 11555 Rockville Pike, Rockville, Maryland.

STATUS: Public and Closed.

Week of March 5, 2012

Thursday, March 8, 2012

10 a.m. Affirmation Session (Public Meeting) (Tentative)

a. NextEra Seabrook, LLC (Seabrook Station, Unit 1), Appeals of LBP-11-2 (Feb. 15, 2011), Docket No. 50-443-LR (Tentative)

b. Entergy Nuclear Generation Co. and Entergy Nuclear Operations, Inc. (Pilgrim Nuclear Power Station), Commonwealth of Massachusetts' Notice of Appeal, and Supporting Brief, of LBP-11-35 (Dec. 8, 2011); Pilgrim Watch's Petition for Review of Memorandum and Order (Denying Commonwealth of Massachusetts' Request for Stay, Motion for Waiver, and Request for Hearing on a New Contention Relating to the Fukushima Accident) Nov. 28, 2011 (Dec. 8, 2011); Commonwealth of Massachusetts' Conditional Motion to Suspend Pilgrim Nuclear Power Plant License Renewal Proceeding Pending Resolution of Petition for Rulemaking to Rescind Spent Fuel Pool Exclusion Regulations (June 2, 2011) (Tentative)

Week of March 12, 2012—Tentative

There are no meetings scheduled for the week of March 12, 2012.

Week of March 19, 2012—Tentative

There are no meetings scheduled for the week of March 19, 2012.

Week of March 26, 2012—Tentative

Tuesday, March 27, 2012

9 a.m. Briefing on License Renewal for Research and Test Reactors (Public Meeting) (Contact: Jessie Quichocho, 301-415-0209)

This meeting will be Web cast live at the Web address: www.nrc.gov.

Week of April 2, 2012—Tentative

There are no meetings scheduled for the week of April 2, 2012.

Week of April 9, 2012—Tentative

There are no meetings scheduled for the week of April 9, 2012.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: February 29, 2012.
Rochelle C. Bavol,
Policy Coordinator, Office of the Secretary.

[FR Doc. 2012-5358 Filed 3-1-12; 4:15 pm]

BILLING CODE 7590-01-P